DEPARTMENT OF TRANSPORTATION

Federal Motor Carrier Safety Administration

[Docket No. FMCSA-2022-0170]

Agency Information Collection Activities; Renewal of an Approved Information Collection: Training Certification for Drivers of Longer Combination Vehicles

AGENCY: Federal Motor Carrier Safety Administration (FMCSA), Department of Transportation (DOT).

ACTION: Notice and request for comments.

SUMMARY: In accordance with the Paperwork Reduction Act of 1995, FMCSA announces its plan to submit the Information Collection Request (ICR) described below to the Office of Management and Budget (OMB) for its review and approval and invites public comment. FMCSA requests approval to renew an ICR titled, “Training Certification for Drivers of Longer Combination Vehicles” OMB Control No. 2126-0026. This ICR relates to Agency requirements for drivers to be certified to operate longer combination vehicles (LCVs), and associated recordkeeping requirements that motor carriers must satisfy before permitting their drivers to operate LCVs. Motor carriers, upon inquiry by authorized Federal, State, or local officials, must produce an LCV Driver-Training Certificate for each of their LCV drivers.

DATES: Comments on this notice must be received on or before April 3, 2023.

ADDRESSES: Written comments and recommendations for the proposed information collection (IC) should be sent within 30 days of publication of this notice to www.reginfo.gov/public/do/PRAMain. Find this IC by selecting “Currently under 30-day Review—Open for Public Comments” or by using the search function.

FOR FURTHER INFORMATION CONTACT: Ms. Pearlie Robinson, FMCSA Driver and Carrier Operations Division, DOT, FMCSA, West Building 6th Floor, 1200 New Jersey Avenue SE, Washington, DC 20590, (202) 366-4225, pearlie.robinson@dot.gov.

SUPPLEMENTARY INFORMATION:

Title: Training Certification for Drivers of Longer Combination Vehicles (LCVs).

OMB Control Number: 2126-0026.

Type of Request: Renewal of an information collection request.

Respondents: LCV training providers who train new LCV drivers; drivers who complete LCV training each year; current LCV drivers who submit their LCV Driver-Training Certificate to prospective employers; and employers (motor carriers) receiving and maintaining copies of the LCV Driver-Training Certificates of their drivers.

Estimated Number of Respondents: 52,082, consisting of 240 LCV training providers, 240 newly-certified LCV drivers seeking employment, 25,681 currently certified LCV drivers seeking employment, and 25,921 motor carriers employing LCV drivers.

Estimated Time per Response: 10 minutes for training providers to prepare LCV Driver-Training Certificates for drivers who successfully complete the LCV training; 5 minutes for newly-certified drivers, as well as 5 minutes for currently-certified drivers, to provide LCV Training Certification documents to motor carriers; and 5 minutes for motor carriers to retain the LCV training certifications.

Expiration Date: June 30, 2023.

Frequency of Response: On occasion.

Estimated Total Annual Burden: 4,360 hours. The total number of drivers who will be subjected to these requirements each year is 25,921, which consists of 240 newly-certified LCV drivers seeking employment and 25,681 currently-certified LCV drivers obtaining new employment. Also, there are 240 LCV training providers who will be required to prepare the training certificates for newly-certified drivers. Additionally, there are 25,921 (240 + 25,681) motor carriers who will hire the drivers. The total annual information collection burden is approximately 4,360 hours = 40 hours for preparation of LCV Driver-Training Certificates [240 training providers prepare certificates for drivers successfully completing training × 10 minutes/60 minutes/hour] + 20 hours for newly-certified LCV drivers seeking employment to provide certification documents to motor carriers [240 drivers × 5 minutes/60 minutes/hour] + 2,140 hours for currently-certified LCV drivers seeking employment to provide certification documents to motor carriers [25,681 drivers × 5 minutes/60 minutes/hour] + 2,160 hours for the 25,921 motor carriers receiving and filing certificates from the hiring of 240 newly-certified LCV drivers and the hiring of 25,681 currently-certified LCV drivers [25,921 × 5 minutes/60 minutes/hour].

Background

An LCV is any combination of a truck-tractor and two or more semi-trailers or trailers that operates on the National System of Interstate and Defense Highways (according to 23 CFR 470.107) and has a gross vehicle weight greater than 80,000 pounds (49 CFR 380.105(b)) (see 69 FR 16733, March 30, 2004). To enhance the safety of LCV operations on our Nation's highways, section 4007(b) of the Motor Carrier Act of 1991 directed the Secretary of Transportation to establish Federal minimum training requirements for drivers of LCVs (Title IV of the Intermodal Surface Transportation Efficiency Act of 1991, Pub. L. 102-240, 105 Stat. 1914, 2152). The Secretary of Transportation delegated responsibility for establishing these requirements to FMCSA (49 CFR 1.87), and on March 30, 2004, FMCSA established the current training requirements for operators of LCVs (69 FR 16722), codified at 49 CFR part 380. The LCV Driver Training Program in 49 CFR 380.201 described in Appendix F to part 380 lists topics of instruction required for drivers of LCVs to complete during training before they can obtain an LCV Driver-Training Certificate. Drivers receive an LCV Driver-Training Certificate that is substantially in accordance with the form in 49 CFR 380.401(a) upon successful completion of these training requirements. Section 380.401(b) requires drivers to provide a copy of the LCV Driver-Training Certificate to his/her employer to be filed in the Driver Qualification file. Section 380.113 bars motor carriers from permitting their drivers to operate an LCV if the drivers have not been properly trained in accordance with the requirements of 49 CFR 380.203 or 380.205. Motor carriers employing an LCV driver must verify the driver's qualifications to operate an LCV and must maintain a copy of the LCV Driver-Training Certificate and present it to authorized Federal, State, or local officials upon request.

Renewal of This IC

The current burden hour estimate associated with this IC, approved by OMB on June 26, 2020, is 4,244 hours. The expiration date of the current ICR is June 30, 2023. Through this ICR renewal, the Agency requests an increase in the burden hours from 4,244 hours to 4,360 hours. The increase is the result of the increase in estimated driver population as well as the increase in expected industry growth rate for drivers from 2020 to 2030.

On October 11, 2022, FMCSA published a Federal Register notice allowing for a 60-day comment period on this ICR (87 FR 61428). The comment period closed on December 12, 2022. There were no comments submitted in response to that notice.

Public Comments Invited: You are asked to comment on any aspect of this IC, including: (1) whether the proposed collection is necessary for the performance of FMCSA's functions; (2) the accuracy of the estimated burden; (3) ways for the FMCSA to enhance the quality, usefulness, and clarity of the collected information; and (4) ways that the burden could be minimized without reducing the quality of the information collected. The agency will summarize or include your comments in the request for OMB's clearance of this ICR.

Issued under the authority of 49 CFR 1.87.
Thomas P. Keane,
Associate Administrator, Office of Research and Registration.

[FR Doc. 2023-04382 Filed 3-2-23; 8:45 am]

BILLING CODE 4910-EX-P